DEPARTMENT OF THE INTERIOR

National Park Service

[NPS-WASO-NRNHL-DTS#-31417; PPWOCRADI0, PCU00RP14.R50000]

National Register of Historic Places; Notification of Pending Nominations and Related Actions

AGENCY: National Park Service, Interior.

ACTION: Notice.

SUMMARY: The National Park Service is soliciting electronic comments on the significance of properties nominated before January 23, 2021, for listing or related actions in the National Register of Historic Places.

DATES: Comments should be submitted electronically by February 18, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before January 23, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so. Nominations submitted by State or Tribal Historic Preservation Officers:

Key: State, County, Property Name, Multiple Name(if applicable), Address/Boundary, City, Vicinity, Reference Number.

INDIANA

Allen County

Driving Park-Seven States Historic District, (Park and Boulevard System of Fort Wayne, Indiana MPS), Roughly bounded by Vermont Ave., Crescent Ave. Florida Dr., State Blvd., West and East Drs., Curdes, and Dodge Aves. Ave Fort Wayne, MP100006201

Carroll County

Franklin Street Stone Arch Bridge, Franklin St. over Old Canal, Delphi, SG100006203

Lancaster Covered Bridge, Cty. Rd. 500 W-500 S over Wildcat Cr., Owasco vicinity, SG100006206

Little Rock Creek Stone Arch Bridge, Cty. Rd. 1025 N-175 W over Little Rock Cr., Lockport vicinity, SG100006207

Washington Street Stone Arch Bridge, Washington St. over Old Canal, Delphi, SG100006209

Jackson County

Brownstown Courthouse Square Historic District, Roughly Walnut St. between Sugar and Poplar Sts. and Main St. between Cross and Spring Sts., Brownstown, SG100006202

Johnson County

Bagby-Doub Farmstead, 308 Worthsville Rd., Greenwood vicinity, SG100006200

Marion County

Ford Motor Company Indianapolis Assembly Plant, 1315 East Washington St., Indianapolis, SG100006204

James E. Roberts School 97, (Public School Buildings in Indianapolis Built Before 1940 MPS), >1401 East 10th St., Indianapolis, MP100006205

P.R. Mallory Company Factory Historic District, 3029 East Washington St. and 101 South Parker Ave., Indianapolis, SG100006208

IOWA

Linn County

Meyers Farmstead Historic District, 300 West Market St., Lisbon, SG100006183

Winneshiek County, Luther College Campus Historic District, 700 College Dr., Decorah, SG100006184

NEBRASKA

Dundy County

Zorn Theatre, (Historic Movie Theaters in Nebraska MPS), 706 Chief St., Benkelman, MP100006190

Hall County

Soldiers and Sailors Home, 2300 West Capital Ave., Grand Island, SG100006191

Harlan County

Cordelia Bennett Preston Memorial Library, 510 South Orleans Ave., Orleans, SG100006192

Hotel Orleans, 101 East Pine St., Orleans, SG100006193

Merrick County

Clarksville Township Carnegie Library, (Carnegie Libraries in Nebraska MPS AD), 108 West Amity St., Clarks, MP100006194

NEW YORK

Franklin County

Oval Wood Dish Factory, 100-120 Demars Blvd. and 13 Dish Ave., Tupper Lake, SG100006198

Nassau County

Nassau County Courthouse, 262 Old Country Rd., Mineola, SG100006213

Otsego County, St. Stephen's Chapel, 124 Cty. Rd. 10, Morris, SG100006199

OHIO

Ottawa County

Union Chapel, 5258 East Porter St., Port Clinton vicinity, SG100006196

Scioto County

100 Mile House, 4866 US 52 #D, Stout, SG100006197

Wayne County

Tawney Musser Farm, 10495 Black Diamond Rd., Marshallville vicinity, SG100006182

OREGON

Clackamas County

Kinsman, John and Elizabeth, House, 17014 SE Oatfield Rd., Milwaukie vicinity, SG100006185

Multnomah County

J. K. Gill Company Building, (Downtown Portland, Oregon MPS), 408 SW 5th Ave., Portland, MP100006186

Mallory Avenue Christian Church, 126 NE Alberta St., Portland, SG100006187

Terwilliger Parkway, (City Beautiful Movement and Civic Planning in Portland, Oregon MPS), 3000 SW Terwilliger Blvd., Portland, MP100006188

VIRGINIA

Caroline County

Port Royal Historic District (Boundary Increase), Jct. of US 301 and US 17 continuing north to the Rappahannock R., Port Royal, BC100006212

A request for removal has been made for the following resource:

NEBRASKA

Washington County

Trinity Seminary Building, College Dr., Blair, OT80004528

Additional documentation has been received for the following resources:

VIRGINIA

Caroline County

Port Royal Historic District (Additional Documentation), Bounded by Rappahannock R., US 301, Patricia Ln., Frederick, and Back Sts., Port Royal, AD70000786

Authority: Section 60.13 of 36 CFR part 60.

Dated: January 26, 2021.
Sherry Frear,
Chief, National Register of Historic Places/National Historic Landmarks Program.

[FR Doc. 2021-02191 Filed 2-2-21; 8:45 am]

BILLING CODE 4312-52-P